FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011305-009

Title: United Alliance Agreement

Parties: Cho Yang Shipping Company, Ltd., Hanjin Shipping Co., Ltd., Senator Lines GmbH, United Arab Shipping Company

Synopsis: The proposed amendment removes Cho Yang Shipping Company, Ltd. as a party and adjusts the vessel contributions and space allocations of the remaining parties.

Agreement No.: 011762

Title: United Alliance Agreement

Parties: Cho Yang Shipping Company, Ltd., Hanjin Shipping Co., Ltd.

Synopsis: The proposed agreement would allow Hanjin Shipping Co., Ltd. to sell vessel space to Cho Yang Shipping Company, Ltd. in the trades between U.S. East and West Coast ports and ports in Asia, Europe, and the Middle East.

Agreement No.: 011763

Title: Crowley/Dole Space Charter and Sailing Agreement

Parties: Crowley Liner Services, Dole Ocean Cargo Express, Inc.

Synopsis: The proposed agreement permits the parties to charter space to each other and coordinate sailings in the trade between Port Everglades, Florida and Puerto Limon, Costa Rica.

Dated: May 4, 2001.
By Order of the Federal Maritime Commission.
Bryant L. VanBrakle,
Secretary.

[FR Doc. 01-11685 Filed 5-8-01; 8:45 am]

BILLING CODE 6730-01-P